SECURITIES AND EXCHANGE COMMISSION

[Release No. 34-69520; File No. 4-661]

Credit Ratings Roundtable

AGENCY: Securities and Exchange Commission.

ACTION: Notice of roundtable discussion location change.

SUMMARY: This notice announces the change of location of the May 14, 2013, Credit Ratings Roundtable that was published in the April 29, 2013 Federal Register (78 FR 25101 through 25102). The new location of the roundtable discussion is Room L-002 (the Auditorium) at the Securities and Exchange Commission's headquarters located at 100 F Street NE., in Washington, DC 20549. The public is invited to observe the roundtable discussion. Seating will be available on a first-come, first-served basis. The roundtable discussion also will be available via webcast on the Commission's Web site at www.sec.gov.

DATES: The roundtable discussion will take place on May 14, 2013. The Commission will accept comments regarding issues addressed at the roundtable until June 3, 2013.

FOR FURTHER INFORMATION CONTACT: Scott Davey at (212) 336-0075, Office of Credit Ratings, Securities and Exchange Commission, 3 World Financial Center, New York, NY 10281-1022.

SUPPLEMENTARY INFORMATION: On April 29, 2013, we published a notice in the Federal Register (78 FR 25101 through 25102) that announced a May 14, 2013 roundtable to discuss various matters related to credit ratings.

Dated: May 6, 2013.
Elizabeth M. Murphy,
Secretary.

[FR Doc. 2013-11082 Filed 5-9-13; 8:45 am]

BILLING CODE 8011-01-P